INTERNATIONAL TRADE COMMISSION

[Investigations Nos. 701-TA-409-412 and 731-TA-909-912 (Final)]

Low Enriched Uranium From France, Germany, the Netherlands, and the United Kingdom

AGENCY: United States International Trade Commission.

ACTION: Revised schedule for the subject investigations.

EFFECTIVE DATE: November 9, 2001.

FOR FURTHER INFORMATION CONTACT: Fred Fischer (phone: 202-205-3179; e-mail: ffischer@usitc.gov), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS-ON-LINE) at http://dockets.usitc.gov/eol/public.

SUPPLEMENTARY INFORMATION: On September 5, 2001, the Commission established a schedule for the conduct of the final phase of the subject investigations (66 FR 46467, September 5, 2001). Subsequently, the Department of Commerce extended the date for its final determinations in the investigations from November 26, 2001, to December 13, 2001. The Commission, therefore, is revising its schedule to conform with Commerce's new schedule.

The Commission's new schedule for the investigations is as follows: requests to appear at the hearing must be filed with the Secretary to the Commission not later than December 3, 2001; the prehearing conference (if needed) will be held at the U.S. International Trade Commission Building at 9:30 a.m. on December 10, 2001; the prehearing staff report will be placed in the nonpublic record on November 30, 2001; the deadline for filing prehearing briefs is December 7, 2001; the hearing will be held at the U.S. International Trade Commission Building at 9:30 a.m. on December 14, 2001; the deadline for filing posthearing briefs is December 21, 2001; the Commission will make its final release of information on January 10, 2002; and final party comments are due on January 14, 2002.

For further information concerning these investigations see the Commission's notice cited above and the Commission's rules of practice and procedure, part 201, subparts A through E (19 CFR part 201), and part 207, subparts A and C (19 CFR part 207).

Authority: These investigations are being conducted under authority of title VII of the Tariff Act of 1930; this notice is published pursuant to § 207.21 of the Commission's rules.

Issued: November 13, 2001.
By Order of the Commission.
Donna R. Koehnke,
Secretary.

[FR Doc. 01-28811 Filed 11-16-01; 8:45 am]

BILLING CODE 7020-02-P